DEPARTMENT OF COMMERCE

Bureau of Industry and Security

15 CFR Part 744

[Docket No. 231101-0257]

RIN 0694-AJ44

Entity List Additions

AGENCY: Bureau of Industry and Security, Department of Commerce.

ACTION: Final rule.

SUMMARY: In this rule, the Bureau of Industry and Security (BIS) amends the Export Administration Regulations (EAR) by adding 13 entities to the Entity List under the destinations of Russia (12), and Uzbekistan (1). These entities have been determined by the U.S. Government to be acting contrary to the national security or foreign policy interests of the United States.

DATES: This rule is effective November 2, 2023.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List (supplement no. 4 to part 744 of the EAR (15 CFR parts 730-774)) identifies entities for which there is reasonable cause to believe, based on specific and articulable facts, that the entities have been involved, are involved, or pose a significant risk of being or becoming involved in activities contrary to the national security or foreign policy interests of the United States, pursuant to § 744.11(b). The EAR impose additional license requirements on, and limit the availability of, most license exceptions for exports, reexports, and transfers (in-country) when a listed entity is a party to the transaction. The license review policy for each listed entity is identified in the “License Review Policy” column on the Entity List, and the impact on the availability of license exceptions is described in the relevant Federal Register document that added the entity to the Entity List. The Bureau of Industry and Security (BIS) places entities on the Entity List pursuant to parts 744 (Control Policy: End-User and End-Use Based) and 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Entity List Decisions

Additions to the Entity List

The ERC determined to add Aeroscan Limited Liability Company; Alfakomponent; BIC-Inform LLC; Hartis DV LLC; ID Solution LLC; OOO OMP; Orelmetallpolimer LLC; Spel LLC; Spetstehnotreyd LLC; STC Orion LLC; Technical Center Windeq LLC; and ZALA Aero Group, all under the destination of Russia; and Mvizion LLC, under the destination of Uzbekistan, to the Entity List. These entities are added for supporting Russia's military through the procurement, development, and proliferation of Russian unmanned aerial vehicles (UAVs). This activity is contrary to the national security and foreign policy interests of the United States under § 744.11(b) and these entities qualify as military end users under §§ 744.21(e), 744.21(g), and 746.8(b) of the EAR. These entities are receiving a footnote 3 designation because the ERC has determined that they are Russian or Belarusian `military end users' pursuant to § 744.21. A footnote 3 designation subjects these entities to the Russia/Belarus-Military End User Foreign Direct Product (FDP) rule, detailed in § 734.9(g). The entities are added with a license requirement for all items subject to the EAR and a license review policy of denial for all items subject to the EAR apart from food and medicine designated as EAR99, which will be reviewed on a case-by-case basis.

For the reasons described above, this final rule adds the following 13 entities, including aliases where appropriate, to the Entity List:

Russia

• Aeroscan Limited Liability Company;

• Alfakomponent;

• BIC-Inform LLC;

• Hartis DV LLC;

• ID Solution LLC;

• OOO OMP;

• Orelmetallpolimer LLC;

• Spel LLC;

• Spetstehnotreyd LLC;

• STC Orion LLC;

• Technical Center Windeq LLC; and

• ZALA Aero Group.

Uzbekistan

• Mvizion LLC.

Savings Clause

For the changes being made in this final rule, shipments of items removed from eligibility for a License Exception or export, reexport, or transfer (in-country) without a license (NLR) as a result of this regulatory action that were en route aboard a carrier to a port of export, reexport, or transfer (in-country), on November 2, 2023, pursuant to actual orders for export, reexport, or transfer (in-country) to or within a foreign destination, may proceed to that destination under the previous eligibility for a License Exception or export, reexport, or transfer (in-country) without a license (NLR) before December 4, 2023. Any such items not actually exported, reexported or transferred (in-country) before midnight, on November 2, 2023, require a license in accordance with this final rule.

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule.

Rulemaking Requirements

1. This rule has been determined to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves an information collection approved by OMB under control number 0694-0088, Simplified Network Application Processing System. BIS does not anticipate a change to the burden hours associated with this collection as a result of this rule. Information regarding the collection, including all supporting materials, can be accessed at https://www.reginfo.gov/public/do/PRAMain.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required, and none has been prepared.

List of Subjects in 15 CFR Part 744

Exports, Reporting and recordkeeping requirements, Terrorism.

Accordingly, part 744 of the Export Administration Regulations (15 CFR parts 730-774) is amended as follows:

PART 744—END-USE AND END-USER CONTROLS

1. The authority citation for part 744 is revised to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of November 8, 2022, 87 FR 68015, 3 CFR, 2022 Comp., p. 563; Notice of September 7, 2023, 88 FR 62439 (September 11, 2023).

2. Supplement no. 4 is amended:

a. Under RUSSIA by adding, in alphabetical order, entries for “Aeroscan Limited Liability Company;” “Alfakomponent;” “BIC-Inform LLC;” “Hartis DV LLC;” “ID Solution LLC;” “OOO OMP;” “Orelmetallpolimer LLC;” “Spel LLC;” “Spetstehnotreyd LLC;” “STC Orion LLC;” “Technical Center Windeq LLC;” “ZALA Aero Group;” and

b. Under UZBEKISTAN by adding, in alphabetical order, an entry for “Mvizion LLC” to read as follows:

Supplement No. 4 to Part 744—Entity List

* * * * *

Country | Entity | License requirement | License review policy | Federal Register citation
* * * * * * *
RUSSIA | * * * * * *
| Aeroscan Limited Liability Company, a.k.a., the following two aliases: —Aeroscan; and —OOO Aeroskan. 3 Perunovsky Pereulok, Building 2, Moscow, 127055, Russia; and 2a Avtozavodskaya Street, Izhevsk, Udmurt Republic, Russia; and 2 Moskovskaya, Street, Buzuluk, Orenburgskaya Oblast, 461042, Russia; and 3 Per. Perunovski, Street 2, Floor 2, Pomeshch. 11, Munitsipalny Okrug Marina Roshcha, Moscow, 127055, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] 11/6/2023.
| * * * * * *
| Alfakomponent, a.k.a., the following one alias: —OOO Alfakomponent. 140 Leninski Prospect, Litera E, Office 407A, Saint Petersburg, 198216, Russia. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] 11/6/2023.
| * * * * * *
| BIC-Inform LLC, a.k.a., the following two aliases: —OOO BIC-Inform; and —OOO BIK-Inform. 9 Bumazhnaya Street, K. 1, Litera A, Rooms 201-209, Saint Petersburg, 190020, Russia. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] 11/6/2023.
| * * * * * *
| Hartis DV LLC, a.k.a., the following two aliases: —Trade House Alkopanel Limited Liability Company; and —OOO Khartis DV. 35 Svobody Street, Building 5, Floor 1, Kom. 4, Moscow, 125362, Russia. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] 11/6/2023.
| * * * * * *
| ID Solution LLC, a.k.a., the following one alias: —OOO Aidi Solyushn. Annino Plaza Business Center, 60B Dorozhnaya Street, Room 421, Moscow, 117405, Russia; and 2 Donbasskaya Street, Vidnoe, Moscow Oblast, 142700, Russia. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] 11/6/2023.
| * * * * * *
| OOO OMP, 31/1 Stanislavskogo Street, Floor 1, Office 2, Novosibirsk, Novosibirskaya Oblast, 630097, Russia. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] 11/6/2023.
| * * * * * *
| Orelmetallpolimer LLC, a.k.a., the following two aliases: —OMP LLC, and —OOO Orelmetallpolimer. 1 Yu Avtomagistral Street, Mtsensk, Orovskaya Oblast, 303032, Russia; and 45 Olkhovskaya Street, Building 3, Floor 1, Room 1/10, Munitsipalny Okrug Krasnoselski, Moscow, 105066, Russia; and 19B Novosushchevskaya Street, Moscow, 127055, Russia; and 24/8 Vatutina Street, Office 204, Dzerzhinsk, Nizhny Novgorod Oblast, 606019, Russia. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] 11/6/2023.
| * * * * * *
| Spel LLC, 12 Gavanskaya Street, Building 2, Litera B, Room 1-N, Saint Petersburg, 199106, Russia; and 39 Morskaya Embankment, Building 2A, Room 9-N, St. Petersburg, 199155, Russia. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] 11/6/2023.
| * * * * * *
| Spetstehnotreyd LLC, a.k.a., the following one alias: —OOO Spetstekhnotreid. 11 Mekhanizatorski Per., Office 105, Izhevsk, Udmurt Republic, 426028, Russia. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] 11/6/2023.
| * * * * * *
| STC Orion LLC, a.k.a., the following three aliases: —OOO NTTS Orion; —OOO Nauchno-Tekhnicheski Tsentr Orion; and —Limited Liability Company Scientific and Technical Center Orion. 7A Gostinichnaya, Pomeshch. 1/1, Office 1/V-08, Munitipalny Okrug Marfino, Moscow, 127106, Russia; and 3 Perunovskiy Per., Annex 2, Moscow, 127055, Russia. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] 11/6/2023.
| * * * * * *
| Technical Center Windeq LLC, a.k.a., the following two aliases: —OOO Tekhnicheski Tsentr Vindek; and —TC Windeq. 1B/3 Pokrovskaya Street, Office 69, G.O. Podolsk, Moscow Oblast, 142116, Russia; and 1 Domodedovskoye Avenue, Building 3, Podolskiy District, Moscow Oblast, 142116, Russia. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] 11/6/2023.
| * * * * * *
| ZALA Aero Group, a.k.a., the following fourteen aliases: —A-Level Aerosystems; —CST; —CST LLC; —CST Limited; —CST, OOO; —TsST Limited Liability Company; —TsST LLC; —TsST Limited; —TsST, OOO; | For all items subject to the EAR. (See §§ 734.9(g),³ 746.8(a)(3), and 744.21(b) of the EAR | Policy of denial for all items subject to the EAR apart from food and medicine designated as EAR99, which will be reviewed on a case-by-case basis. See §§ 746.8(b) and 744.21(e) | 88 FR [INSERT FR PAGE NUMBER] 11/6/2023.
| —ZALA; —ZALA AERO; —ZALA AERO GROUP—Bespilotniye Sistemy; —ZALA AERO GROUP—Unmanned Systems; and —ZALA Aero Group Limited Liability Company. 118 40 Let Pobedy Street, Izhevsk, Udmurt Republic, 426072, Russia; and 3 Perunovsky Per., Building 2, Floor 3, Room 21, Moscow, 127055, Russia.
| * * * * * *
UZBEKISTAN | * * * * * *
| Mvizion LLC, 8 Katartal Street, 7th Block, Chilanzarskiy District, Tashkent, 100113, Uzbekistan; and 313 Gaydar Alieev Kuchasi, Tashkent, Uzbekistan. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] 11/6/2023.
| * * * * * *
* * * * * * *
³ For this entity, “items subject to the EAR” includes foreign-produced items that are subject to the EAR under § 734.9(g) of the EAR. See §§ 746.8 and 744.21 of the EAR for related license requirements, license review policy, and restrictions on license exceptions.
* * * * * * *

Matthew S. Borman,
Deputy Assistant Secretary for Export Administration.

[FR Doc. 2023-24508 Filed 11-2-23; 8:45 am]

BILLING CODE 3510-JT-P